DEPARTMENT OF TRANSPORTATION

Federal Aviation Administration

14 CFR Part 39

[Docket No. FAA-2005-22401; Directorate Identifier 2004-NM-93-AD; Amendment 39-14480; AD 2006-03-16]

RIN 2120-AA64

Airworthiness Directives; Hamburger Flugzeugbau GmbH Model HFB 320 HANSA Airplanes

AGENCY: Federal Aviation Administration (FAA), Department of Transportation (DOT).

ACTION: Final rule.

SUMMARY: The FAA is adopting a new airworthiness directive (AD) for all Hamburger Flugzeugbau GmbH Model HFB 320 HANSA airplanes. This AD requires revising the Limitations section of the HFB 320 Hansa Airplane Flight Manual to prohibit operation of the airplane past its designed life limit for the primary structure, which is 15,000 flight hours or 15,000 fight cycles, whichever occurs first; and to require contacting the FAA for approval of analysis that the airplane is safe to continue operation beyond the designed life limit. This AD results from a report that all airplanes in operation might have met or exceeded the designed life limit for the primary structure. We are issuing this AD to prevent continued operation of an airplane beyond its designed life limit for the primary structure, which could result in reduced structural integrity of the airplane.

DATES: This AD becomes effective March 15, 2006.

ADDRESSES: You may examine the AD docket on the Internet at http://dms.dot.gov or in person at the Docket Management Facility, U.S. Department of Transportation, 400 Seventh Street, SW., Nassif Building, room PL-401, Washington, DC.

FOR FURTHER INFORMATION CONTACT: Dan Rodina, Aerospace Engineer, International Branch, ANM-116, Transport Airplane Directorate, FAA, 1601 Lind Avenue, SW., Renton, Washington 98055-4056; telephone (425) 227-2125; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to all Hamburger Flugzeugbau GmbH Model HFB 320 HANSA airplanes. That NPRM was published in the Federal Register on September 14, 2005 (70 FR 54314). That NPRM proposed to require revising the Limitations section of the HFB 320 Hansa Airplane Flight Manual (AFM) to prohibit operation of the airplane past its designed life limit for the primary structure, which is 15,000 flight hours or 15,000 fight cycles, whichever occurs first; and to require contacting the FAA for approval of analysis that the airplane is safe to continue operation beyond the designed life limit.

Comments

We provided the public the opportunity to participate in the development of this AD. We received no comments on the NPRM or on the determination of the cost to the public.

Clarification of Alternative Method of Compliance (AMOC) Paragraph

We have revised this action to clarify the appropriate procedure for notifying the principal inspector before using any approved AMOC on any airplane to which the AMOC applies.

Conclusion

We have carefully reviewed the available data and determined that air safety and the public interest require adopting the AD with the change described previously. We have determined that this change will neither increase the economic burden on any operator nor increase the scope of the AD.

Costs of Compliance

There are 4 airplanes of U.S. registry that will be affected by this AD. The revision to the Limitations section will take about 1 work hour per airplane at an average labor rate of $65 per work hour. Based on these figures, the cost of the AFM revision for U.S. operators will be $260, or $65 per airplane. We recognize that this AD may impose certain additional operational costs. However, we cannot calculate those costs because we cannot predict the extent of any necessary repairs to ensure the continued airworthiness of the affected airplanes.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-03-16 Hamburger Flugzeugbau GmbH: Amendment 39-14480. Docket No. FAA-2005-22401; Directorate Identifier 2004-NM-93-AD.

Effective Date

(a) This AD becomes effective March 15, 2006.

Affected ADs

(b) None.

Applicability

(c) This AD applies to all Hamburger Flugzeugbau GmbH Model HFB 320 HANSA airplanes, certificated in any category.

Unsafe Condition

(d) This AD results from a report that all airplanes in operation might have met or exceeded the designed life limit for the primary structure. We are issuing this AD to prevent continued operation of an airplane beyond its designed life limit for the primary structure, which could result in reduced structural integrity of the airplane.

Compliance

(e) You are responsible for having the actions required by this AD performed within the compliance times specified, unless the actions have already been done.

Airworthiness Limitations Revision

(f) Within 30 days after the effective date of this AD: Revise the Limitations section of the HFB 320 Hansa Airplane Flight Manual (AFM) to state the following (or insert a copy of this AD into the Limitations section):

“Do not operate the airplane beyond 15,000 total flight cycles, or 15,000 total flight hours, whichever occurs first.”

(g) This limitation may be removed from the HFB 320 Hansa AFM after the Manager, International Branch, ANM-116, FAA, approves analysis that would substantiate continued safe operation beyond the designed life limit of 15,000 total flight cycles, or within 15,000 total flight hours on the airplane, whichever occurs first.

Alternative Methods of Compliance (AMOCs)

(h)(1) The Manager, International Branch, ANM-116, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(i) German airworthiness directive 2002-158, effective October 3, 2002, also addresses the subject of this AD.

Material Incorporated by Reference

(j) None.

Issued in Renton, Washington, on January 31, 2006.
Ali Bahrami,
Manager, Transport Airplane Directorate, Aircraft Certification Service.

[FR Doc. 06-1147 Filed 2-7-06; 8:45 am]

BILLING CODE 4910-13-P